DEPARTMENT OF THE INTERIOR

National Park Service

Record of Decision; Final General Management Plan/Environmental Impact Statement; Whitman Mission National Historic Site, Washington

ACTION: Notice of approval of record of decision.

SUMMARY: Pursuant to Section 102(2)(C) of the National Environmental Policy Act of 1969, as amended, and the regulations promulgated by the Council on Environmental Quality (40 CFR 1505.2), the Department of the Interior, National Park Service, has prepared a Record of Decision on the Final General Management Plan/Environmental Impact Statement for Whitman Mission National Historic Site in Washington.

DATES: The Record of Decision was recommended by the Superintendent of Whitman Mission National Historic Site, concurred by the Deputy Regional Director, Pacific West Region, and approved by the Acting Regional Director, Pacific West Region, on August 25, 2000.

ADDRESSES: Inquiries regarding the Record of Decision or the Environmental Impact Statement should be submitted to the Superintendent, Whitman Mission National Historic Site, Route 2, Box 247, Walla Walla, WA 99362; telephone: (509) 522-6360.

SUPPLEMENTARY INFORMATION: The text of the Record of Decision follows: The Department of the Interior, National Park Service (NPS), has prepared this Record of Decision (ROD) on the final Environmental Impact Statement (EIS) for the General Management Plan (GMP) for Whitman Mission National Historic Site, Washington. This ROD is a statement of the decision made, other alternatives considered, public involvement in the decision making process, the basis for the decision, the environmentally preferable alternative, and measures to minimize environmental harm.

Decision (Selected Action)

Whitman Mission National Historic Site (NHS) will implement Alternative C, identified as the action that best satisfies the Site and NPS missions, as well as the Site's long-term management objectives. Some actions remain consistent with those presented in the draft EIS. Others were modified in the final EIS to respond to public comments and concerns. The selected action recognizes both the need to protect natural and cultural resources and to provide appropriate opportunities for visitors and area residents.

Specific actions to be implemented under the selected action are summarized below:

The foundations of the original structures on the Mission Grounds will be delineated three-dimensionally to enhance visitor experience and education. Also on the Mission Grounds, the existing lawn will be removed and substituted with native grasses. The overall setting for the visitor experience of Memorial Hill and the Great Grave will be preserved as memorial and contemplative. Reconstructed wagon ruts and the placement of the pioneer wagon on the Oregon Trail will be maintained. In addition, NPS will take measures to formally sign the trail within the NHS with the official Oregon National Historic Trail logo, and will encourage congressional action to designate the Whitman Mission Route as an officially recognized branch of the Oregon Trail.

Native vegetation will be planted and sustained along Doan Creek, the oxbow of the Walla Walla River, and irrigation ditch. An integrated pest management plan will be prepared and implemented to address the plant, animal and insect pests within the NHS. The asphalt riprap lining along the bank at Mill Creek within the NHS will be removed and the bank will be revegetated.

The overall interpretation of the Mission Grounds will be enhanced, including the connection between the Mission Grounds and the former location of the Walla Walla River (river oxbow area). Existing audio sound box exhibits located on the Mission Grounds, Memorial Hill, and the Great Grave will be removed to address problems of noise distractions to visitors and will be replaced with other interpretive media. A new interpretive audio-visual program will be developed for use in the auditorium to replace both the 1976 movie and the 1978 slide program. Public access will be provided to the research library and archives for research work, projects, and inquiry about the Whitmans, mission life, the Cayuse people, and other topics related to Whitman Mission.

A new unpaved nature loop trail will be developed south of the Mission Grounds. This unpaved pedestrian trail will provide opportunities for self-guided nature walks with corresponding interpretive wayside exhibits and educational materials about the flora and fauna of this riparian area and the natural forces of the changing Walla Walla River.

A range of general improvements will be made to the visitor center building. The visitor center and museum will be named and signed “Waiilatpu Visitor Center” to reflect its Cayuse name. Various remodeling projects will provide needed space for the public. Additional restroom space will be constructed adjacent to the existing public restroom. Additional exhibit and administrative space will be constructed. The selected action also includes a development concept plan that includes reconfiguring the main parking lot, adding a group shelter to the picnic area, adding several improvements to the visitor center entry, and construction of additional administrative space on the existing administrative wing. Reconfiguring the pedestrian access to the Oregon Trail and the Mission Grounds is also included.

Acquisition of conservation easements on properties adjacent to the national historic site will be encouraged on a voluntary basis by a non-profit land trust or other entity.

Other Alternatives Considered

Alternative A—The no-action alternative represents the continuation of existing conditions, including addressing any effects of activities impacting cultural resources through the Section 106 compliance process, in accordance with federal law. The overall scene of the NHS for the visitor would continue to be preserved as contemplative and reflective, in part due to the “park-like” treatment of the Mission Grounds. The NHS would be managed to promote the historic scene and to continue to allow natural processes to occur on land and river environs as long as they do not adversely affect the cultural resources and existing public facilities. No change to current administrative facilities would be forthcoming.

Alternative B—This alternative represents a minimum level of improvements regarding visitor facilities and interpretation in order to make the visitor experience more rewarding and informative. Included in Alternative B would be the establishment of native grasses within the Mission Grounds to be more historically accurate and to help delineate the outline of the original building foundations, removing audio sound boxes and enhancing overall interpretation, moving two building walls within the visitor center to maximize exhibit space, enlarging restrooms, reconfiguring existing administrative space, improving access to Memorial Hill for the mobility impaired, expanding multi-lingual opportunities, reconfiguring parking space, and encouraging protection of the surrounding historic scene by Walla Walla County.

Alternative D—This alternative has many of the same general actions as Alternative C. In addition, at the Mission Grounds dirt paths would be established, the historic fence alignment would be re-established, and the orchard would be enlarged to be closer to its historic size. Archeological research would be conducted to try to determine the exact location of the Whitman sawmill site. Cattle would again be grazed in the pasture and oxbow area to approximate the historic scene. A replicated Cayuse village would be located on the Walla Walla River floodplain.

Adjacent to the maintenance area, a new administrative building would be constructed and administrative functions moved out of the visitor center creating additional space for interpretive functions, association sales area and exhibit space. Finally, to protect the foreground viewshed and enable the NPS to acquire and hold conservation easements, a boundary adjustment of approximately 450 acres would be recommended for congressional authorization.

Actions common to all alternatives include keeping the required occupancy in the existing park residence, providing a photographic panoramic of the view from Memorial Hill for mobility-impaired visitors, coordinating with the staff of other Oregon Trail sites, completing a baseline inventory for the NHS, developing a Whitman Mission NHS Friends group, re-establishing Doan Creek, and planting native plants at the NHS when non-historic ornamental trees and shrubs die.

Basis for Decision

After careful consideration of public comments throughout the planning process, including comments on the draft EIS, the selected action best accomplishes the legislated purpose of the Monument and balances the statutory mission of the NPS to provide long-term protection of the Monument's resources and significance, while allowing for appropriate levels of visitor use and appropriate means of visitor enjoyment. The selected action also best accomplishes identified management goals and desired future conditions, with the fewest environmental impacts.

Environmentally Preferable Alternative

The alternative which causes the least damage to the cultural and natural environment, and that best protects, preserves, and enhances resources is Alternative C.

Measures To Minimize Environmental Harm

All practicable measures to avoid or minimize environmental impacts that could result from implementation of the selected action have been identified and incorporated into the selected action. Implementation of the selected action would avoid any adverse impacts on wetlands and any endangered or threatened species, or that would result in the destruction or adverse modification of critical habitat of such species.

Public Involvement

Public comment has been requested, considered, and incorporated throughout the planning process in numerous ways. A Notice of Intent to prepare an EIS was published in the Federal Register on September 20, 1996 (vol. 61, no. 184, page 49481). In early August 1996, NPS produced a one-page newsletter that was made available to visitors at the NHS. The purpose of the letter was to inform visitors about the upcoming planning process and to provide an opportunity for the visitors to get on the NHS's mailing list. In October a comprehensive four-page newsletter was produced and distributed to 510 individuals on the NHS's mailing list. Additional copies were distributed throughout Walla Walla at public buildings including colleges, universities, clubs, libraries, and civic buildings. The purpose of that newsletter was to explain the planning process and encourage public participation in the process.

In addition, advertisements were published on October 20 and October 22 in both the daily Walla Walla Union Bulletin newspaper and the weekly Buyline newspaper, informing readers about the planning process including the dates, times, and location of the public meetings.

Two public scoping meetings were held in October 1996 in Walla Walla, WA, to assist in identifying issues to be addressed in the GMP/EIS. A total of 9 people attended the two meetings. In December 1996, a third meeting was held in Mission, OR. This meeting was with members of the Cultural Resources Committee of the Confederated Tribes of the Umatilla Indian Reservation (CTUIR). Another meeting with the CTUIR was held in April 1998, in Mission, OR, for the purpose of briefing the committee on a preliminary range of alternatives. The NPS received 6 written comments during the scoping period.

More than 250 copies of the draft GMP/EIS were mailed to government agencies, organizations and interested individuals in August 1999. In addition, the document was posted on the Internet and mailed to local libraries in the Walla Walla area. The EPA Notice of Availability was published in the Federal Register on September 3, 1999 (vol. 64, no. 171, pg. 48394). A Notice of Availability was also published by NPS on September 3 (vol. 64, no. 171, pg. 48419). In addition, advertisements in the Buyline and Union Bulletin in Walla Walla, and in the Confederated Umatilla Journal in Mission, OR, announced the release of the draft GMP/EIS stating times, location, and dates of the September 1999 public workshops. A total of 3,000 newsletters were printed that included a summary of the draft plan and information on the scheduled public workshops. Each newsletter included a postage-paid response form for people to use in submitting comments concerning the plan. Newsletters were also made available at the NHS visitor center and the Chamber of Commerce in Walla Walla.

Two public workshops were held in Walla Walla, WA, on September 29, and in Mission, OR, on September 30, 1999. In addition, a meeting with adjacent landowners was held on September 28, in Walla Walla. The purpose of the workshops was to offer the public an opportunity to meet with the NPS planning staff and discuss the draft GMP/EIS. More than 70 people attended the workshops.

The final GMP/EIS was released to the public on May 30, 2000. The EPA Notice of Availability of the final GMP/EIS was published in the Federal Register on June 16, 2000 (vol. 65, no. 117, pg. 37780); the NPS also published a Notice of Availability in the Federal Register on June 20, 2000 (vol. 65, no. 119, pg. 38300) and placed the document on the park website.

Consultation with the U.S. Fish and Wildlife Service, National Marine Fisheries Service, Washington State Historic Preservation Office, and the Advisory Council for Historic Preservation was conducted as part of the planning process.

The public comment period closed on November 12, 1999, but any comments received at the park by November 26 were included. A total of 28 pieces of written correspondence were received from government agencies, businesses, special interest groups and individuals. Of these, 16 were letters from individuals and agencies, 7 e-mail responses through the Internet, and 5 response forms from the newsletter. The final GMP/EIS included a summary of the comments received at the public workshops and a summary of the comments received from written responses. All 28 pieces of written correspondence were included in the final document.

Dated: September 21, 2000.
Rory D. Westberg,
Superintendent, Columbia Cascades Support Office, Pacific West Region.

[FR Doc. 00-25253 Filed 9-29-00; 8:45 am]

BILLING CODE 4310-70-P